DEPARTMENT OF ENERGY

Federal Energy Regulatory Commission

[Docket No. RP96-383-037]

Dominion Transmission, Inc.; Notice of Negotiated Rates

February 7, 2002.

Take notice that on February 1, 2002, Dominion Transmission, Inc. (DTI) tendered for filing the following tariff sheet for disclosure of a recently negotiated transaction with Sithe Power Marketing, LP:

Third Revised Sheet No. 1400

DTI states that the tariff sheet relates to a specific negotiated rate transaction between DTI and Sithe Power Marketing, LP. The transaction provides Sithe Power Marketing, LP with firm transportation service and conforms to the forms of service agreement contained in DTI's tariff. The term of the agreement is February 2, 2002, through January 31, 2003.

DTI states that copies of its letter of transmittal and enclosures have been served upon DTI's customers and interested state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-3469 Filed 2-12-02; 8:45 am]

BILLING CODE 6717-01-P